DEPARTMENT OF THE INTERIOR

Bureau of Land Management

[NM-952-02-1050-BJ]

Notice of Filing of Plats of Survey; NM

AGENCY: Bureau of Land Management, Interior.

ACTION: Notice.

SUMMARY: The plats of survey described below are scheduled to be officially filed in the New Mexico State Office, Bureau of Land Management, Santa Fe, New Mexico, (30) thirty calendar days from the date of this publication.

Indian Meridian, Oklahoma

T. 7 N., R. 15 W., approved July 23, 2002, for Group 62 OK;

T. 25 N., R. 24 E., approved July 29, 2002, for Group 72 OK;

T. 9 N., R. 9 E., approved July 31, 2002, for Group 90 OK;

T. 27 N., R. 24 E., approved August 5, 2002, for Group 92 OK;

T. 13 N., R. 24 W., approved July 23, 2002, for Group 87 OK;

New Mexico Principal Meridian, New Mexico

T. 18 S., R. 14 E., approved July 15, 2002, for Group 939 NM;

T. 9 S., R. 13 E., approved August 5, 2002, for Group 975 NM;

Supplemental Plat

T. 12 S., R. 4 W., approved August 20, 2002, NM;

Protraction Diagrams for

T. 16 N., R. 3 E., approved July 22, 2002, NM;

T. 18 N., R. 11 E., approved July 22, 2002, NM;

T. 19 N., R. 13 E., approved August 6, 2002, NM;

T. 18 N., R. 13 E., approved August 8, 2002, NM;

T. 20 N., R. 13 E., approved August 22, 2002, NM;

If a protest against a survey, as shown on any of the above plats is received prior to the date of official filing, the filing will be stayed pending consideration of the protest. A plat will not be officially filed until the day after all protests have been dismissed and become final or appeals from the dismissal affirmed.

A person or party who wishes to protest against any of these surveys must file a written protest with the NM State Director, Bureau of Land Management, stating that they wish to protest.

A statement of reasons for a protest may be filed with the notice of protest to the State Director, or the statement of reasons must be filed with the State Director within thirty (30) days after the protest is filed. The above-listed plats represent dependent resurveys, surveys, and subdivisions.

These plats will be available for inspection in the New Mexico State Office, Bureau of Land Management, P.O. Box 27115, Santa Fe, New Mexico, 87502-0115. Copies may be obtained from this office upon payment of $1.10 per sheet.

Dated: September 5, 2002.
Steve Beyerlein,
Acting Chief Cadastral Surveyor for New Mexico.

[FR Doc. 02-23059 Filed 9-10-02; 8:45 am]

BILLING CODE 4310-FB-M